DEPARTMENT OF ENERGY

Federal Energy Regulatory Commission

Combined Notice of Filings #1

Take notice that the Commission received the following exempt wholesale generator filings:

Docket Numbers: EG22-109-000.

Applicants: Cutlass Solar LLC.

Description: Cutlass Solar LLC submits Notice of Self-Certification of Exempt Wholesale Generator Status.

Filed Date: 5/3/22.

Accession Number: 20220503-5209.

Comment Date: 5 p.m. ET 5/24/22.

Take notice that the Commission received the following Complaints and Compliance filings in EL Dockets:

Docket Numbers: ER20-681-006; EL22-28-000.

Applicants: Tri-State Generation and Transmission Association, Inc., Tri-State Generation and Transmission Association, Inc.

Description: Response to March 25, 2022 Deficiency Letter of Tri-State Generation and Transmission Association, Inc.

Filed Date: 4/29/22.

Accession Number: 20220429-5715.

Comment Date: 5 p.m. ET 5/20/22.

Docket Numbers: EL22-55-000.

Applicants: Southern California Edison Company.

Description: Petition for Declaratory Order of [Southern California Edison Company].

Filed Date: 4/28/22.

Accession Number: 20220428-5520.

Comment Date: 5 p.m. ET 5/30/22.

Take notice that the Commission received the following electric rate filings:

Docket Numbers: ER10-2474-026; ER10-2475-027; ER10-2605-016; ER10-2611-024; ER10-2984-056; ER10-3246-020; ER11-2044-038; ER11-3876-027; ER12-162-032; ER12-1626-013; ER13-520-012; ER13-521-012; ER13-1266-038; ER13-1267-012; ER13-1268-012; ER13-1269-012; ER13-1270-012; ER13-1271-012; ER13-1272-012; ER13-1273-012; ER13-1441-012; ER13-1442-012; ER15-2211-035; ER16-438-008; ER16-1258-006; ER18-1419-005; ER21-2280-002.

Applicants: Independence Wind Energy LLC, Walnut Ridge Wind, LLC, Grande Prairie Wind, LLC, Marshall Wind Energy LLC, MidAmerican Energy Services, LLC, Solar Star California XX, LLC, Solar Star California XIX, LLC, Vulcan/BN Geothermal Power Company, Salton Sea Power L.L.C., Salton Sea Power Generation Company, Fish Lake Power LLC, Elmore Company, Del Ranch Company, CE Leathers Company, CalEnergy, LLC, Pinyon Pines Wind II, LLC, Pinyon Pines Wind I, LLC, Topaz Solar Farms LLC, Bishop Hill Energy II LLC, Cordova Energy Company LLC, MidAmerican Energy Company, PacifiCorp, Merrill Lynch Commodities, Inc., Saranac Power Partners, L.P., Yuma Cogeneration Associates, Nevada Power Company, Sierra Pacific Power Company.

Description: Notice of Non-Material Change in Status of Sierra Pacific Power Company, et al.

Filed Date: 5/2/22.

Accession Number: 20220502-5397.

Comment Date: 5 p.m. ET 5/23/22.

Docket Numbers: ER11-47-015; ER12-1540-013; ER12-1541-013; ER12-1542-013; ER12-1544-013; ER14-594-017; ER14-867-003; ER14-868-004; ER16-323-012; ER17-1930-007; ER17-1931-007; ER17-1932-007; ER19-606-005; ER19-1941-003; ER20-649-003; ER21-136-004.

Applicants: Flat Ridge 3 Wind Energy, LLC, AEP Energy Partners, Inc., Flat Ridge 2 Wind Energy LLC, AEP Generation Resources Inc., Southwestern Electric Power Company, AEP Texas Inc., Public Service Company of Oklahoma, Ohio Valley Electric Corporation, AEP Retail Energy Partners, LLC, AEP Energy, Inc., Ohio Power Company, Wheeling Power Company, Kingsport Power Company, Kentucky Power Company, Indiana Michigan Power Company, Appalachian Power Company.

Description: Notice of Change in Status of Appalachian Power Company, et al.

Filed Date: 4/29/22.

Accession Number: 20220429-5711.

Comment Date: 5 p.m. ET 5/20/22.

Docket Numbers: ER17-256-014; ER17-242-013; ER17-243-013; ER22-245-001; ER17-652-013.

Applicants: Lightstone Marketing LLC, Waterford Power, LLC, Lawrenceburg Power, LLC, Gavin Power, LLC, Darby Power, LLC.

Description: Notice of Non-Material Change in Status of Darby Power, LLC, et. al.

Filed Date: 5/2/22.

Accession Number: 20220502-5398.

Comment Date: 5 p.m. ET 5/23/22.

Docket Numbers: ER17-1742-005; ER13-2490-009; ER17-311-005; ER19-53-002; ER19-2595-004; ER19-2670-004; ER19-2671-004; ER19-2672-004; ER20-1073-003; ER20-2455-001; ER20-2510-003; ER20-2512-003; ER20-2515-003; ER20-2595-001; ER20-2663-003; ER21-2406-002; ER21-2407-002; ER21-2408-002; ER21-2409-002; ER21-2638-002; ER22-734-001.

Applicants: SR Arlington, LLC, SR Perry, LLC, SR Snipesville II, LLC, SR Lumpkin, LLC, SR Georgia Portfolio II Lessee, LLC, Lancaster Solar LLC, SR Snipesville, LLC, SR Rattlesnake, LLC, SR Georgia Portfolio I MT, LLC, SR Baxley, LLC, Odom Solar LLC, SR Platte, LLC, SR Terrell, LLC, SR Arlington II MT, LLC, SR Arlington II, LLC, SR Meridian III, LLC, SR Hazlehurst III, LLC, SR Millington, LLC, SR South Loving LLC, Simon Solar, LLC, Hattiesburg Farm, LLC.

Description: Notice of Change in Status of Hattiesburg Farm, LLC, et al.

Filed Date: 4/29/22.

Accession Number: 20220429-5712.

Comment Date: 5 p.m. ET 5/20/22.

Docket Numbers: ER20-1830-001.

Applicants: Duquesne Light Company, PJM Interconnection, L.L.C.

Description: Compliance filing: Duquesne Light Company submits tariff filing per 35: Duquesne Order 864 Supplemental Compliance Filing in ER20-1830 to be effective 1/27/2020.

Filed Date: 5/4/22.

Accession Number: 20220504-5135.

Comment Date: 5 p.m. ET 5/25/22.

Docket Numbers: ER22-1429-001.

Applicants: Appalachian Power Company.

Description: Tariff Amendment: RE 34—AEP East Transmission Agreement—Errata to be effective 12/31/9998.

Filed Date: 5/3/22.

Accession Number: 20220503-5193.

Comment Date: 5 p.m. ET 5/24/22.

Docket Numbers: ER22-1787-000.

Applicants: Tri-State Generation and Transmission Association, Inc.

Description: § 205(d) Rate Filing: Initial Filing of Rate Schedule FERC No. 342 and Request for Expedited Action to be effective 5/31/2022.

Filed Date: 5/3/22.

Accession Number: 20220503-5087.

Comment Date: 5 p.m. ET 5/24/22.

Docket Numbers: ER22-1790-000.

Applicants: PJM Interconnection, L.L.C.

Description: § 205(d) Rate Filing: Original NSA, Service Agreement No. 6450; Queue No. AD2-116 to be effective 4/5/2022.

Filed Date: 5/4/22.

Accession Number: 20220504-5031.

Comment Date: 5 p.m. ET 5/25/22.

Docket Numbers: ER22-1791-000.

Applicants: PJM Interconnection, L.L.C.

Description: § 205(d) Rate Filing: Original NSA, SA No. 6433; Queue No. AE2-060 to be effective 4/7/2022.

Filed Date: 5/4/22.

Accession Number: 20220504-5050.

Comment Date: 5 p.m. ET 5/25/22.

Docket Numbers: ER22-1792-000.

Applicants: Southwest Power Pool, Inc.

Description: § 205(d) Rate Filing: Revisions to Modify Transmission Owner Selection Criteria and Scoring Process to be effective 7/4/2022.

Filed Date: 5/4/22.

Accession Number: 20220504-5052.

Comment Date: 5 p.m. ET 5/25/22.

Docket Numbers: ER22-1793-000.

Applicants: Alabama Power Company, Georgia Power Company, Mississippi Power Company.

Description: § 205(d) Rate Filing: Alabama Power Company submits tariff filing per 35.13(a)(2)(iii: PowerSouth NITSA Amendment (Add Union Grove DP) to be effective 4/4/2022.

Filed Date: 5/4/22.

Accession Number: 20220504-5093.

Comment Date: 5 p.m. ET 5/25/22.

Docket Numbers: ER22-1794-000.

Applicants: Green USA, LLC.

Description: Baseline eTariff Filing: Application of Green USA for Market-Based Rate Authorization to be effective 5/6/2022.

Filed Date: 5/4/22.

Accession Number: 20220504-5104.

Comment Date: 5 p.m. ET 5/25/22.

Docket Numbers: ER22-1795-000.

Applicants: Duke Energy Florida, LLC.

Description: § 205(d) Rate Filing: DEF-FPL Settlement RS No. 362 to be effective 7/4/2022.

Filed Date: 5/4/22.

Accession Number: 20220504-5123.

Comment Date: 5 p.m. ET 5/25/22.

Docket Numbers: ER22-1796-000.

Applicants: Commonwealth Edison Company, PJM Interconnection, L.L.C.

Description: § 205(d) Rate Filing: Commonwealth Edison Company submits tariff filing per 35.13(a)(2)(iii: Commonwealth Edison revisions to OATT, Attachment H-13 to be effective 4/29/2022.

Filed Date: 5/4/22.

Accession Number: 20220504-5130.

Comment Date: 5 p.m. ET 5/25/22.

Take notice that the Commission received the following electric securities filings:

Docket Numbers: ES22-46-000.

Applicants: Southern Indiana Gas & Electric Company, Inc.

Description: Application Under Section 204 of the Federal Power Act for Authorization to Issue Securities of Southern Indiana Gas and Electric Company.

Filed Date: 5/4/22.

Accession Number: 20220504-5131.

Comment Date: 5 p.m. ET 5/25/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 4, 2022.
Debbie-Anne A. Reese,
Deputy Secretary.

[FR Doc. 2022-09995 Filed 5-9-22; 8:45 am]

BILLING CODE 6717-01-P